FEDERAL COMMUNICATIONS COMMISSION

47 CFR Part 73

[MB Docket No. 25-108; RM-11998; DA 25-373; FR ID 293660]

Television Broadcasting Services; Hazard, Kentucky; Correction

AGENCY: Federal Communications Commission.

ACTION: Final rule; correction.

SUMMARY: The Federal Communications Commission published a document in the Federal Register of May 5, 2025, concerning a rulemaking filed by Gray Television Licensee, LLC, licensee of WYMT-TV, Hazard, Kentucky, requesting substitution of channel 12 for channel 20 at Hazard in the Table of TV Allotments. The document contained the incorrect state in the title.

DATES: June 11, 2025.

FOR FURTHER INFORMATION CONTACT: Emily Harrison, Media Bureau, at Emily.Harrison@fcc.gov, (202) 418-1665, or Mark Colombo, Media Bureau, at Mark. Colombo@fcc.gov, (202) 418-7611.

SUPPLEMENTARY INFORMATION:

Correction

In rule FR Doc. 2025-07755, in the Federal Register of May 5, 2025, on page 18928, in the first column, correct the title caption to read:

Television Broadcasting Services; Hazard, Kentucky

Dated: May 5, 2025.
Federal Communications Commission.
Thomas Horan,
Chief of Staff, Media Bureau.

[FR Doc. 2025-10604 Filed 6-10-25; 8:45 am]

BILLING CODE 6712-01-P